DEPARTMENT OF DEFENSE

Department of the Army

[Docket ID: USA-2008-0042]

Privacy Act of 1974; System of Records

AGENCY: Department of the Army, DoD.

ACTION: Notice to Add a System of Records.

SUMMARY: The Department of the Army is proposing to add a system of records to its existing inventory of records systems subject to the Privacy Act of 1974 (5 U.S.C. 552a), as amended.

DATES: The proposed action will be effective on August 25, 2008 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The proposed system report, as required by 5 U.S.C. 552a(r) of the Privacy Act of 1974, as amended, was submitted on July 18, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals’, dated February 8, 1996 (February 20, 1996, 61 FR 6427).

Dated: July 18, 2008.
Patricia L. Toppings,
OSD Federal Register Liaison Officer, Department of Defense.

A0001-100 OAA

System Name:

Army Gift Donation Program.

System location:

Headquarters, Department of the Army, staff and field operating agencies, major commands, installations and activities receiving gifts and donations pursuant to the Army's gift donation program. Official mailing addresses are published as an appendix to the Army's compilation of record system notices.

Categories of individuals covered by the system:

Individuals, corporations or agencies that submit donations and gifts to the Army and soldier and family programs. Such programs include the Soldier and Family Assistance Centers, Family Readiness Groups, Child, Youth and Schools' Programs, Soldier and Recreation Programs, and Social Entertainment Programs.

Categories of records in the system:

Individual's name, address, E-mail address, donation amount, type of gift, intended recipient, credit card information such as account number, card security code and expiration date, bank account numbers, affiliation with private organization or company, and disposition of gift or donation.

Authority for maintenance of the system:

10 U.S.C. 3013, Secretary of the Army; 26 U.S.C. 6041, Information at Source; 10 U.S.C. 2601, Acceptance of Gifts and Services; 10 U.S.C. 2608, Acceptance of Gifts and Services; DoD Financial Management Regulation 7000.14-R, Operation and Use of General Gift Funds of the Department of Defense and Coast Guard; AR 1-100, Gifts and Donations; AR 1-101, Gifts for Distribution to Individuals; and AR 870-20, Army Museums, Historical Artifacts, and Art.

Purpose(s):

To approve and facilitate the receipt of gifts and donations to the Army from individuals, corporations or agencies.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Policies and practices for storing, retrieving, accessing, retaining, and disposing of records in the system:

Storage:

Electronic storage media and paper files.

Retrievability:

Individual's name.

Safeguards:

Records are kept in datacenter facilities that are secured 24 hours a day with restricted access. Data access is restricted to specific individuals with a business need-to-know or having an official need therefore. Additionally, all applicable Information Assurance controls are in place to ensure security of the information and non-repudiation.

Retention and disposal:

Disposition pending (until the National Archives and Records Administration has approved retention and disposition of these records, treat as permanent).

System managers(s) and address:

Office of the Administrative Assistant to the Secretary of the Army, ATTN: Army Gift Program, 105 Army Pentagon, Room 3E585, Washington, DC 20310-0105.

Notification procedure:

Individuals seeking to determine whether information about themselves is contained in this system should address written inquiries to the Army activity to which the gift or donation was submitted. If unsure you may submit to Office of the Administrative Assistant to the Secretary of the Army, ATTN: Army Gift Program, 105 Army Pentagon, 3E585, Washington, DC 20310-0105.

Individuals or organization must provide name, proof of identification, and details such as the date, amount and designated activity regarding the donation or gift.

Record access procedures:

Individuals seeking access to information about themselves contained in this system should address written inquiries to the Army activity to which the gift or donation was submitted. If unsure you may submit to Office of the Administrative Assistant to the Secretary of the Army, ATTN: Army Gift Program, 105 Army Pentagon, 3E585, Washington, DC 20310-0105.

Individuals or organization must provide name, proof of identification, and details such as the date, amount and designated activity regarding the donation or gift.

Contesting record procedures:

The Army's rules for accessing records, and for contesting contents and appealing initial agency determinations are contained in Army Regulation 340-21; 32 DFR part 505; or may be obtained from the system manager.

Record source categories:

From the individual and from DoD and Army activities.

Exemptions claimed for the system:

None.

[FR Doc. E8-17032 Filed 7-24-08; 8:45 am]

BILLING CODE 5001-06-P